DEPARTMENT OF ENERGY

Federal Energy Regulatory Commission

Combined Notice of Filings #1

Take notice that the Commission received the following exempt wholesale generator filings:

Docket Numbers: EG25-535-000.

Applicants: TotalEnergies Renewables USA, LLC.

Description: Hill Solar II, LLC submits Notice of Self-Certification of Exempt Wholesale Generator Status.

Filed Date: 9/23/25.

Accession Number: 20250923-5068.

Comment Date: 5 p.m. ET 10/14/25.

Docket Numbers: EG25-536-000.

Applicants: BSE TX Storage LLC.

Description: BSE TX Storage LLC submits Notice of Self-Certification of Exempt Wholesale Generator Status.

Filed Date: 9/23/25.

Accession Number: 20250923-5085.

Comment Date: 5 p.m. ET 10/14/25.

Docket Numbers: EG25-537-000.

Applicants: Bridge Solar Energy Development II LLC.

Description: Bridge Solar Energy Development II LLC submits Notice of Self-Certification of Exempt Wholesale Generator Status.

Filed Date: 9/23/25.

Accession Number: 20250923-5086.

Comment Date: 5 p.m. ET 10/14/25.

Take notice that the Commission received the following electric rate filings:

Docket Numbers:ER17-405-002; ER17-405-003; ER17-406-003; ER17-406-002; EL23-51-002; EL23-51-001.

Applicants: American Municipal Power, Inc., et al. v. AEP Appalachian Transmission Company Inc., et al., AEP Appalachian Transmission Company, Inc., Appalachian Power Company.

Description: American Electric Power East Companies submit its Compliance Filing of the Commission's directive in the 06/30/2025 Order.

Filed Date: 8/29/25.

Accession Number: 20250829-5235.

Comment Date: 5 p.m. ET 9/19/25.

Docket Numbers: ER20-2186-000.

Applicants: Fern Solar LLC.

Description: Refund Report: Refund report to 2 to be effective N/A.

Filed Date: 9/22/25.

Accession Number: 20250922-5109.

Comment Date: 5 p.m. ET 10/14/25.

Docket Numbers: ER20-2186-000.

Applicants: Fern Solar LLC.

Description: Refund Report: Refund report to 2—Corrected to be effective N/A.

Filed Date: 9/23/25.

Accession Number: 20250923-5000.

Comment Date: 5 p.m. ET 10/14/25.

Docket Numbers: ER25-3360-000.

Applicants: AL Solar H, LLC.

Description: Supplement to 09/03/2025, AL Solar H, LLC tariff filing.

Filed Date: 9/22/25.

Accession Number: 20250922-5052.

Comment Date: 5 p.m. ET 10/2/25.

Docket Numbers: ER25-3437-001.

Applicants: American Transmission Systems, Incorporated.

Description: Tariff Amendment: Supplemental Filing—ATSI submits two Construction Agmts—SA Nos. 7487 & 7489 to be effective 11/17/2025.

Filed Date: 9/23/25.

Accession Number: 20250923-5087.

Comment Date: 5 p.m. ET 10/14/25.

Docket Numbers: ER25-3480-001.

Applicants: MATL LLP.

Description: Tariff Amendment: Amendment to BA FIling ER25-3480 to be effective 12/31/9998.

Filed Date: 9/22/25.

Accession Number: 20250922-5108.

Comment Date: 5 p.m. ET 10/14/25.

Docket Numbers: ER25-3484-000.

Applicants: Evergy Metro, Inc.

Description: § 205(d) Rate Filing: Osawatomie DPFA and IA to be effective 11/18/2025.

Filed Date: 9/23/25.

Accession Number: 20250923-5055.

Comment Date: 5 p.m. ET 10/14/25.

Docket Numbers: ER25-3485-000.

Applicants: Evergy Metro, Inc.

Description: § 205(d) Rate Filing: Gardner Delivery Point Facilities Agreement to be effective 11/18/2025.

Filed Date: 9/23/25.

Accession Number: 20250923-5059.

Comment Date: 5 p.m. ET 10/14/25.

Docket Numbers: ER25-3486-000.

Applicants: Midcontinent Independent System Operator, Inc., Xcel Energy Services Inc., Northern States Power Company, a Minnesota corporation.

Description: § 205(d) Rate Filing: Northern States Power Company, a Minnesota corporation submits tariff filing per 35.13(a)(2)(iii: 2025-09-23_NSP Request for Incentives RE JTIQ & LRTP 2.1 to be effective 11/23/2025.

Filed Date: 9/23/25.

Accession Number: 20250923-5060.

Comment Date: 5 p.m. ET 10/14/25.

Docket Numbers: ER25-3487-000.

Applicants: Evergy Kansas Central, Inc.

Description: § 205(d) Rate Filing: RS 193 DPFA Mulvane to be effective 11/22/2025.

Filed Date: 9/23/25.

Accession Number: 20250923-5062.

Comment Date: 5 p.m. ET 10/14/25.

Docket Numbers: ER25-3488-000.

Applicants: Midcontinent Independent System Operator, Inc., Ameren Transmission Company of Illinois.

Description: § 205(d) Rate Filing: Ameren Transmission Company of Illinois submits tariff filing per 35.13(a)(2)(iii: 2025-09-23_SA 4155 ATXI-Coles Wind 2nd Rev E&P (J2128) to be effective 9/24/2025.

Filed Date: 9/23/25.

Accession Number: 20250923-5066.

Comment Date: 5 p.m. ET 10/14/25.

Docket Numbers: ER25-3489-000.

Applicants: Midcontinent Independent System Operator, Inc.

Description: § 205(d) Rate Filing: 2025-09-23_SA 4083 Duke Energy-Emerald Green 3rd Rev GIA (J1481) to be effective 9/9/2025.

Filed Date: 9/23/25.

Accession Number: 20250923-5070.

Comment Date: 5 p.m. ET 10/14/25.

Docket Numbers: ER25-3490-000.

Applicants: PJM Interconnection, L.L.C.

Description: § 205(d) Rate Filing: Notice of Cancellation of CSA, SA No. 5099; Queue No. AB1-173/AB1-173A/AB2-031 to be effective 6/25/2025.

Filed Date: 9/23/25.

Accession Number: 20250923-5103.

Comment Date: 5 p.m. ET 10/14/25.

Docket Numbers: ER25-3491-000.

Applicants: California Independent System Operator Corporation.

Description: § 205(d) Rate Filing: 2025-09-23 Extend WEIM Assistance Energy Transfer Feature—Tariff Amendment to be effective 11/24/2025.

Filed Date: 9/23/25.

Accession Number: 20250923-5119.

Comment Date: 5 p.m. ET 10/14/25.

Docket Numbers: ER25-3492-000.

Applicants: PECO Energy Company.

Description: § 205(d) Rate Filing: Transmission Security Agreement between PECO and Amazon to be effective 11/23/2025.

Filed Date: 9/23/25.

Accession Number: 20250923-5131.

Comment Date: 5 p.m. ET 10/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 23, 2025.
Carlos D. Clay,
Deputy Secretary.

[FR Doc. 2025-18731 Filed 9-25-25; 8:45 am]

BILLING CODE 6717-01-P